DEPARTMENT OF VETERANS AFFAIRS

[OMB Control No. 2900-0098]

Agency Information Collection Activity Under OMB Review: Dependents' Application for VA Education Benefits

AGENCY: Veterans Benefits Administration, Department of Veterans Affairs.

ACTION: Notice.

SUMMARY: In compliance with the Paperwork Reduction Act (PRA) of 1995, this notice announces that the Veterans Benefits Administration (VBA), Department of Veterans Affairs, will submit the collection of information abstracted below to the Office of Management and Budget (OMB) for review and comment. The PRA submission describes the nature of the information collection and its expected cost and burden and it includes the actual data collection instrument.

DATES: Written comments and recommendations for the proposed information collection should be sent within 30 days of publication of this notice to www.reginfo.gov/public/do/PRAMain. Find this particular information collection by selecting “Currently under 30-day Review—Open for Public Comments” or by using the search function. Refer to “OMB Control No. 2900-0098.

FOR FURTHER INFORMATION CONTACT: Maribel Aponte, Office of Enterprise and Integration, Data Governance Analytics (008), 1717 H Street NW, Washington, DC 20006, (202) 266-4688 or email maribel.aponte@va.gov. Please refer to “OMB Control No. 2900-0098” in any correspondence.

SUPPLEMENTARY INFORMATION:

Authority: 38 U.S.C. 3311 (as amended by Pub. L. 113-146, section 701, effective August 7, 2014), 3513, 3697A, 5113, 5101, 5102, and 5103; 38 CFR 21.3030 and 21.9510.

Title: Dependents' Application for VA Education Benefits.

OMB Control Number: 2900-0098.

Type of Review: Revision of a currently approved collection.

Abstract: VA claims examiners use the information from this collection to help determine whether an applying individual qualifies for DEA or Fry Scholarship benefits. The information will also be used to determine if the program of education the applicant wishes to pursue is approved for educational assistance. The information on the form can be obtained only from the claimant, and a determination cannot be made without the information.

An agency may not conduct or sponsor, and a person is not required to respond to a collection of information unless it displays a currently valid OMB control number. The Federal Register Notice with a 60-day comment period soliciting comments on this collection of information was published at 86 FR 195 on October 13, 2021, pages 57000 and 57001.

Affected Public: Individuals or Households.

Estimated Annual Burden: 47,855 hours.

Estimated Average Burden Time per Respondent: 45 minutes.

Frequency of Response: Once.

Estimated Number of Respondents: 63,807.

By direction of the Secretary.
Dorothy Glasgow,
VA PRA Clearance Officer (Alt), Office of Enterprise and Integration, Data Governance Analytics, Department of Veterans Affairs.

[FR Doc. 2021-27365 Filed 12-16-21; 8:45 am]

BILLING CODE 8320-01-P